DEPARTMENT OF THE INTERIOR

Bureau of Land Management

[ID-410-1232-IA-ID27-241A, DEG080003]

Notice of Restriction Order No. ID-410-03, Wallace Forest Conservation Area; Idaho

AGENCY: Bureau of Land Management, Interior.

ACTION: Notice of Restriction.

SUMMARY: This restriction order prohibits overnight camping by any person or groups of persons within the Wallace Forest Conservation Area described as all public lands administered by the Bureau of Land Management (BLM) located in Boise Meridian.

T.50 N., R. 2 W.,

Sec. 31, lots 5, 6, 7, 8, E½NE¼SW¼.

T. 50 N., R. 3 W.,

Sec. 26, portion of SW lying S & W of Sunnyside Road;

Sec. 35, portion of lots 1, 2, 7, lots 4, 5, 6, N½NW¼, W½NE¼.

T. 49 N., R. 2 W.,

Sec. 6, lot 4.

T. 49 N., R. 3 W.,

Sec. 1, portion of lots 1, 2, 5, 6.

All are contiguous lands in Kootenai County, Idaho.

The area described above is hereby closed to public occupancy and use daily, beginning one hour after sunset and continuing until one hour before sunrise. A map depicting the restricted area is available for public inspection at the Bureau of Land Management, Coeur d'Alene Field Office, 3815 Schreiber Way, Coeur d'Alene, Idaho. These restrictions become effective immediately and shall remain in effect until revoked or replaced with supplemental rules, or both.

FOR FURTHER INFORMATION CONTACT: Brian White at the BLM Coeur d'Alene Field Office, 3815 Schreiber Way, Coeur d'Alene, ID 83815 or call (208) 769-5031 or via e-mail at brian_white@blm.gov.

SUPPLEMENTARY INFORMATION: The authority for establishing these restrictions is 43 CFR 8364.1.

The 2007 Coeur d'Alene Resource Management Plan (Action RC-1.2.6, p. 47) calls for “establishing additional rules as needed in response to changing situations” under Objective RC-1.2. This objective applies specifically to recreation sites within the Coeur d'Alene Lake Special Recreation Management Area (SRMA). The subject public lands are entirely within this SRMA.

The BLM initiated a public participation process last year to get ideas and comments from the public about future management of this area. Three public workshops were held, including one on-site, which generated significant public interest. Area residents complained of loud parties, bonfires, and lewd activities visible from their homes. Other participants and the vast majority of public comments did not support overnight use or camping within the area.

Supplementary rules will be published according to decisions made within the Environmental Assessment and Recreation Project Plan for the Wallace Forest Conservation Area, which are expected to be completed in 2008.

The camping restriction is necessary to:

(1) Protect public health and safety;

(2) Protect persons, property, public land and resources from vandalism and other damage;

(3) Protect water quality from improper disposal of human waste;

(4) Prevent proliferation of illegal campfires; and

(5) Prevent other activities which are illegal under state or Federal regulations, or both.

These restrictions do not apply to:

(1) Any Federal, state or local government officer or member of an organized rescue or fire fighting force while in the performance of an official duty;

(2) Any Bureau of Land Management employee, agent, contractor, or cooperator while in the performance of an official duty; and

(3) Any person or group expressly authorized by the BLM to use the subject public land.

Penalties. Any person failing to comply with the closure orders may be subject to imprisonment for not more than 12 months, or a fine in accordance with the applicable provisions of 18 U.S.C. 3571, or both.

Dated: April 23, 2008.
Eric R. Thomson,
Coeur d'Alene Field Manager.

[FR Doc. E8-13106 Filed 6-10-08; 8:45 am]

BILLING CODE 4310-GG-P